DEPARTMENT OF TRANSPORTATION

Federal Aviation Administration

14 CFR Part 71

[Docket No. FAA-2012-0662; Airspace Docket No. 08-AWA-2]

RIN 2120-AA66

Proposed Modification of Class B Airspace Area; Philadelphia, PA

AGENCY: Federal Aviation Administration (FAA), DOT.

ACTION: Notice of proposed rulemaking (NPRM).

SUMMARY: This action proposes to modify the Philadelphia, PA, Class B airspace area to ensure the containment of large turbine-powered aircraft within Class B airspace, reduce controller workload, and reduce the potential for midair collision in the Philadelphia terminal area.

DATES: Comments must be received on or before October 1, 2012.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2012-0662 and Airspace Docket No. 08-AWA-2, at the beginning of your comments. You may also submit comments through the Internet at http://www.regulations.gov.

FOR FURTHER INFORMATION CONTACT: Paul Gallant, Airspace, Regulations and ATC Procedures Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2012-0662 and Airspace Docket No. 08-AWA-2) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to Docket Nos. FAA-2012-0662 and Airspace Docket No. 08-AWA-2.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Persons interested in being placed on a mailing list for future NPRMs should contact the FAA's Office of Rulemaking, (202) 267-9677, for a copy of Advisory Circular No. 11-2A, Notice of Proposed Rulemaking Distribution System, which describes the application procedure.

Background

In December 1974, the FAA issued a final rule that established the Philadelphia, PA, Terminal Control Area (TCA) with an effective date of March 27, 1975 (39 FR 43710). In 1993, as part of the Airspace Reclassification Final Rule (56 FR 65638), the term “terminal control area” was replaced by “Class B airspace area.”

The primary purpose of Class B airspace is to reduce the potential for midair collisions in the airspace surrounding airports with high density air traffic operations by providing an area in which all aircraft are subject to certain operating rules and equipment requirements. FAA policy requires that Class B airspace areas be designed to contain all instrument procedures and that air traffic controllers vector aircraft to remain within Class B airspace after entry. Controllers must inform the aircraft when leaving and re-entering Class B airspace if it becomes necessary to extend the flight path outside Class B airspace for spacing. However, in the interest of safety, FAA policy dictates that such extensions be the exception rather than the rule.

The configuration of the Philadelphia Class B airspace area has not been modified since its establishment as a TCA in 1975. Since then, increasing operations have prompted a number of changes at the Philadelphia International Airport (PHL). For example, a new runway (8/26) was opened for use in December 1999; Precision Runway Monitor procedures were implemented in 2003, which permitted the use of independent ILS approaches to Runways 27L and 26; and in early 2009, Runway 17/35 was extended to accommodate continued growth in arrival demand. The newly extended runway alleviated congestion and delays on the airport's two major runways. However, the Class B configuration has not kept pace with airport expansion and increasing operations, and the current design makes it difficult to comply with FAA's policy to contain certain aircraft operations within Class B airspace.

Most aircraft operations at PHL are conducted on parallel Runways 9L/R and 27L/R. Wind conditions dictate operating on a west operation (i.e., landing and departing to the west) approximately 75 percent of the year. On a west operation, Runways 27R, 27L and 26 are in use. On an east operation, Runways 9L/R are in use. The crosswind Runway (17/35) is also utilized during both operations.

Changes Needed to Existing Class B Airspace

The current Class B design does not fully contain turbine-powered aircraft once they have entered the airspace as required by FAA policy. This deficiency also contributes to increased air traffic controller workload and frequency congestion. Aircraft on all final approach courses drop below the existing floor of the Class B airspace while flying published ILS procedures. This has been documented using the Performance Data Analysis and Reporting System (PDARS) tool. Lower Class B airspace floors are needed to protect all final approach courses and downwinds. A major area of concern is the truncated boundary along the southeast quadrant of the PHL Class B. The original purpose of this area was to allow aircraft inbound to LaGuardia, Newark and McGuire airports to fly up Federal airways east of PHL without infringing on the Philadelphia Class B airspace area. However, this Class B configuration on the southeast side is inadequate to contain aircraft on the downwind and final approach courses for Runway 27 and Runway 35.

Pre-NPRM Public Input

The FAA prepared a preliminary design of the proposed PHL Class B modifications to illustrate the need for change and to serve as a basis for ad hoc committee review. In part, the preliminary design featured a proposed expansion of the surface area from the current 6-miles to 8-miles; expansion of the outer limit of Class B airspace from 20-miles to 24-miles around the majority of the area; lower floors of Class B airspace in certain subareas; and a cutout around Cross Keys Airport, NJ (17N).

An ad hoc committee was formed in 2009 to review the Philadelphia Class B airspace and provide recommendations to the FAA about the proposed design. Meetings were held in March and May of 2009 at the Delaware Valley Regional Planning Commission's Office of Aviation in Philadelphia, PA.

In addition, as announced in the Federal Register of November 30, 2010 (75 FR 74127), six informal airspace meetings were held in the Philadelphia area. The meetings were held on: February 15, 2011, at New Castle Airport, New Castle, DE; February 16, 2011, at New Garden Airport, Toughkenamon, PA; February 17 and February 22, 2011, at Wings Field, Blue Bell, PA; February 23, 2011, at Flying W Airport, Medford, NJ; and February 24, 2011, at Freefall Adventures Skydive School, Williamstown, NJ. The purpose of the meetings was to provide interested airspace users an opportunity to present their views and offer suggestions regarding the proposed modifications to the Philadelphia Class B airspace area.

Discussion of Recommendations and Comments

Ad hoc Committee Input

The ad hoc committee provided the following input on the proposed Philadelphia Class B modifications.

The Committee asked that the surface area cutout be expanded to include Cooper Hospital and Penn's Landing Heliport (P72) to allow Medevac helicopter operations below 1,500 feet, and that an additional ring be created from 6 miles to 8 miles with a 1,000 foot floor so that flights from the Pottstown area could navigate to the Philadelphia center city hospital areas without entering Class B airspace.

The FAA expanded the proposed cutout northeast of PHL to include both Cooper Hospital and Penn's Landing heliports. A direct route of flight from the Pottstown area to center city Philadelphia is almost completely outside of the proposed Class B airspace. A 1,000-foot ring between 6 and 8 miles is unnecessary because aircraft flying from the Pottstown area to downtown Philadelphia could remain outside the proposed Class B with only a small correction to the east.

The Committee said that the proposed cutout for Cross Keys Airport (17N) should be widened to allow VFR traffic to operate in a corridor that provides sufficient access to the airport without encroaching on skydiving operations.

The proposed cutout has been reconfigured to allow for skydiving and access for VFR aircraft arriving from or departing to the southeast.

The Committee suggested a cutout south of Wings Field Airport (LOM) to allow aircraft entering the traffic pattern from the north to cross over the airport at 2,500 feet then descend to traffic pattern altitude. The Committee also noted that VFR aircraft maneuvering south of LOM must be below 2,000 feet to remain below the proposed Class B floor in that area, which could result in compression and concern about the 1,600-foot towers nearby.

Currently, the floor of Class B airspace just to the south of LOM is 3,000 feet. The proposed modifications would lower that floor to 2,000 feet. We are unable to create a cutout south of LOM because that portion of the proposed Class B is designed to protect aircraft being vectored for the ILS approach to Runway 17 at PHL. Today, aircraft inbound to PHL in this area are routinely vectored to join the ILS localizer at altitudes between 2,000 and 2,500 feet. There would be just over 1 mile available for aircraft approaching LOM from the north and northwest to cross over LOM at 2,500 feet and descend to enter the local traffic pattern without entering the Class B airspace. The requested cutout south of LOM would not allow enough room to keep the Runway 17 arrivals within Class B airspace. The towers referenced above (known as the Roxboro Antennas) are located 7.5 miles south-southeast of LOM and should not be a factor.

The Committee asked for a cutout east of New Garden Airport (N57) to allow glider operations to continue.

While N57 lies well outside the existing 20-mile ring of the Class B airspace area, the proposed modification would extend the Class B airspace boundary out to 24 miles (which would lie just to the east of N57) with a floor of 4,000 feet. N57 is located under an area where a significant amount of commercial traffic is routed on a daily basis. When PHL is on an east operation, aircraft landing Runway 9R are operating in the immediate vicinity of N57. The Runway 9R arrivals from the north and south are handed off to the Final Vector (FV) controller who sequences and spaces these aircraft for landing. To accomplish this, the FV controller vectors and descends the arriving aircraft, blending the two feeds into one. FAA directives require that the aircraft be retained within Class B airspace during this process, but the current Class B configuration does not extend far enough to the west for controllers to comply with this requirement. The requested cutout east of N57 cannot be accommodated because it would not provide sufficient airspace to allow controllers to keep PHL arrivals within Class B airspace.

The Committee said a corridor should be adopted to allow general aviation aircraft flying VFR from the west or northwest of Philadelphia to transit the Class B airspace with some predictability when en route to southeast and southern New Jersey.

The FAA raised the proposed Class B floor in the majority of the 15-mile to 20-mile ring to 3,500 feet. However, two sections between 15 miles and 20 miles (one on the east side and the other on the west side), would still have a 3,000-foot floor. These two 3,000-foot areas are essential for containing aircraft on the ILS approaches to the primary runways. Due to the 3,000-foot areas, pilots would still need to make a small route change when transitioning to or from the north or south, but setting the proposed floor at 3,500 feet in the remainder of the 15-mile to 20-mile ring would allow greater flexibility for general aviation aircraft operating around Philadelphia. Regarding VFR services, the FAA encourages VFR aircraft to contact PHL and request flight following, advisory and/or Class B separation services. This would allow these aircraft to operate at higher altitudes. PHL Airport Traffic Control Tower (ATCT) has made a commitment to the user community to plan for and staff to provide services to aircraft potentially impacted by the proposed changes to the Class B.

The Committee proposed that a “key hole”, or Runway 24 departure corridor, be established to enable aircraft departing Trenton Mercer Airport (TTN) to climb at a more expeditious rate prior to entering Class B airspace. Also, the use of Continuous Descent Approaches (CDA) for TTN arrivals to Runway 6 should be considered.

TTN currently is, and would remain, well outside the proposed Class B airspace. The FAA believes that the proposed Class B configuration would allow sufficient opportunity (approximately 7 miles) for aircraft departing TTN Runway 24 to either contact Philadelphia approach for Class B clearance or avoid the airspace. CDAs are not operationally feasible in the TTN area. These IFR procedures allow for a continuous descent from an enroute or high initial approach altitude to the runway. ATC sectorization (both inter-facility and intra-facility) in the area northeast of PHL does not allow any procedures (CDAs or Optimized Profile Descents—OPD) that require steep, unrestricted descents.

The Committee opposed the expansion of the surface area radius to 8 miles because it would place the Commodore Barry Bridge (which serves as a landmark used by pilots to stay outside the Class B airspace) within Class B airspace. In addition, the 8-mile ring would place the Pier 36 heliport inside the surface area.

The airspace in this area is required to contain PHL arrivals on the ILS to Runways 9R and 9L. While the proposed 8-mile ring would encompass the bridge, VFR pilots could still use the bridge as a landmark but would have to visually remain 2 miles west of the bridge to avoid the Class B airspace. The expanded ring would also protect small aircraft from possible wake turbulence caused by large and heavy jet aircraft landing Runway 9R. The proposal has been revised so that Pier 36 would be included in the cutout to the northeast of PHL. Helicopters approaching downtown Philadelphia from the west would be required to either obtain a Class B clearance or circumnavigate the airspace as they do today.

The Committee requested a cutout around Perkiomen Valley Airport (N10) to accommodate flight school and skydive operations.

The preliminary Class B design proposed to expand Class B airspace out to a 24-mile ring. This would have resulted in Class B airspace being established above N10 from 4,000 feet up to 7,000 feet. The FAA reevaluated the need for the 24-mile ring, and decided to propose expanding to 24 miles on only east and west ends in order to encompass the extended finals to the primary runways at PHL. Therefore, the outer boundary of Class B airspace would remain at 20 miles in the vicinity of N10 as it is today.

The Committee suggested that the FAA consider VFR routes through the Class B airspace similar to those in Los Angeles, CA.

Charted VFR routes associated with the proposed Philadelphia Class B airspace are currently being considered and evaluated by the Philadelphia ATCT staff.

The Committee provided an alternative proposed Class B design, prepared by the Aircraft Owners and Pilots Association (AOPA). AOPA contended that the FAA's preliminary design appeared overly complex with multiple floors and sectors as well as being larger than needed to contain arriving and departing aircraft.

As previously noted, the FAA changed the proposal remove to the 24-mile ring, except on the east and west ends. However, the alternative design's higher floors and reduced eastern boundary would not meet the need for containing aircraft on ILS approaches to the primary runways. The alternative design's 5,000-foot Class B floor to the east and west of the airport would not provide enough altitudes to separate aircraft on opposing base legs. In both areas, 4,000 feet and 5,000 feet must be available for controllers to comply with the vertical separation requirements while aircraft are on opposing base legs (i.e., head-on). Class B airspace also must be extended and lowered to the south of PHL to contain aircraft being vectored to Runway 35. With the increased usage of that runway, the final approach routinely extends beyond 15 miles.

Informal Airspace Meeting Comments

More than 300 people attended the meetings and 46 written responses were received. Three commenters supported the FAA's proposal, while the remainder objected to various aspects of the proposal. The following section discusses the issues raised.

Many commenters echoed the ad hoc committee recommendation that the proposed 24-mile ring be eliminated. As discussed above, the FAA changed the proposal to delete the 24-mile ring, except to the east and west of PHL along the extended runway centerlines.

Two commenters contended that the proposed expansion of the surface area from 6 miles to 8 miles was not adequately justified, would result in compression of VFR traffic operating below the Class B floor, would cause the boundary to be difficult to identify visually.

This issue was discussed, in part, in the “Ad hoc Committee” section, above. The expansion to 8 miles is necessary because some VFR operations are conducted beneath the final approach courses at locations and altitudes that are causing Traffic Alert and Collision Avoidance System (TCAS) Resolution Advisories (RAs) which cause arriving aircraft to execute unplanned missed approaches. Although the proposed cutout from the surface area was expanded northeast of PHL in response to Ad Hoc Committee input, the alignment of PHL's runways (09/27 and 17/35) makes an 8 mile surface are necessary to protect the final approach courses to those runways.

Several commenters requested either a cutout around Brandywine Airport (OQN) or that the Class B floor above OQN remain at 4,000 feet.

It is necessary to lower the floor of the 20-mile ring (over OQN) from 4,000 feet to 3,500 feet, and the floor of the 15-mile ring (east of OQN), from 3,000 feet to 2,000 feet to contain arrivals landing Runway 9L as they descend on base leg for approach to PHL.

Seven commenters had concerns about the effect of the proposal on glider operations at New Garden Airport (N57). A 5-mile cutout around N57 was requested.

The proposed Class B extension to 24 miles would place the boundary just east of N57, with a floor of 4,000 feet. This airspace is needed to contain arrivals when PHL is on an east operation. Philadelphia ATC personnel are discussing with the users of N57 the possibility of developing procedures via a Letter of Agreement that would minimize the impact of the Class B change on their operation.

Ten commenters were concerned about the potential for compression of traffic and inadvertent Class B intrusions near Wings Field Airport (LOM) and suggested that the Class B floor over LOM be kept at 4,000 feet; the proposed 2,000-foot floor, south of LOM, be raised to 2,500 feet or 3,000 feet; and/or a cutout around LOM be created.

The proposed Class B airspace in the vicinity of LOM is intended to contain aircraft executing the ILS Runway 17 approach at PHL. These arrivals cross a point about 14 NM north of PHL at 3,000 feet, and descend on the glide path for Runway 17. VFR aircraft arriving at LOM currently overfly the airport at 2,500 feet then enter a left traffic pattern for Runway 24. These aircraft pose a potential conflict with PHL Runway 17 arrivals. PHL ATCT encourages VFR aircraft to contact PHL and request flight following, traffic advisories and/or Class B separation services. This would allow these aircraft to operate at higher altitudes. PHL ATCT has made a commitment to the user community to plan for, and staff to provide services to aircraft impacted by the changes to the Class B.

Nine commenters suggested changes on behalf of the following airports located to the east and south of PHL: South Jersey Regional (VAY), Flying W (N14), Red Lion (N73); and Cross Keys (17N). Issues raised included: simplifying the design by changing the 3,500-foot floor northeast of the 17N airport “cutout” to either 3,000 feet or 4,000 feet to combine with adjacent areas, making the cutout for 17N larger, compression of VFR traffic, and creating a corridor similar to that in the Los Angeles, CA Class B airspace area.

The proposed 17N cutout has been slightly expanded from the design presented at the informal airspace meetings, but it could not be further expanded without having an impact on traffic flows inside the Class B. Raising the floor to 4,000 feet would not be sufficient to contain arriving aircraft within Class B airspace, while a 3,000-foot floor would be more restrictive than needed to contain those aircraft. The proposal's 3,500-foot floor provides adequate protection for PHL arrivals while minimizing the impact on VFR traffic. The volume and flow of traffic at PHL preclude the development of a corridor like the one through the Los Angeles Class B airspace area. However, VFR flyways under and around the airspace would be developed as part of the proposed Class B modification.

Six commenters suggested changes on the east and south sides of the proposed Class B, including: raise the Class B floor or create a cutout over VAY, N14 and N73; modify the Class B north of the 17N cutout so that the direct route between McGuire VORTAC (GXU) and Cedar Lake VORTAC (VCN) does not create nose-to-nose VFR traffic at 3,000 feet; and expand the “funnel” between Robbinsville VORTAC (RBV) and VCN between the Class B boundary and Alert Area A-220 to prevent compression of VFR traffic.

The FAA understands that the proposed changes would reduce the amount of airspace available for VFR operations southeast of the PHL Class B. To lessen this impact, the 24-mile ring has been reduced in size as discussed previously. However, because VAY, N14 and N73 all lie within 24 miles of PHL, as well as in the arrival area, and less than 4 miles from the final approach course, it is not possible to create a cutout or raise the proposed Class B floor over those airports without a significant impact on PHL arrivals. PHL ATC would provide clearance through the Class B airspace to VFR flights whenever possible. In addition, traffic from PNE and TTN that transitions PHL airspace to points in South Jersey represents a large number of the conflictions with arrival traffic to Runways 26 and 27R. As such, the VFR corridor designed, more than 25 years ago, is no longer viable. It is PHL ATCT's expectation that this traffic would contact PHL ATCT for flight-following and/or Class B separation services, thus providing a safer environment for all users of the ATC system. VFR aircraft wishing to transit the portion of Alert Area A-220 that would fall within the proposed Class B airspace would be under the control of ATC and therefore would receive separation services from any military aircraft. Pilots that choose to either circumnavigate the area, or fly at altitudes below the Class B airspace, could operate pretty much as they do today except at slightly lower altitudes. The possibility of developing charted routes through the Class B would be considered as a way to mitigate the potential compression issues identified by the commenters.

One commenter suggested the DME distances should be published to identify the Class B rings.

The distances depicted in this proposal are measured from the PHL Airport Reference Point (ARP) defined as lat. 39°52′20″ N., long. 75°14′27″ W. The lack of a VOR/DME facility at PHL, upon which to base radials and DME distances, limits the options for describing the airspace. There are six ILSs with DME at PHL. The FAA will explore the possibility of publishing an alternate description using ILS/DME distances on the PHL VFR Terminal Area chart with an explanation of how to use the DME distances as a guide for navigating around the area.

One commenter was concerned that the Tabernacle, NJ practice area would not be usable for certain training maneuvers if it was under Class B airspace.

The smaller proposed 24-mile Class B extension would not completely remove the practice area from under Class B airspace; however, no additional adjustments could be made in that area without impacting PHL arrivals. Users of the practice area should be able to get a Class B clearance when PHL is on an east operation and that airspace is not in use for arrivals.

A number of commenters stated that there are too many Class B floor variations in the proposed design which would be confusing to pilots and it would be difficult to determine the boundaries without GPS navigation equipment on board. Further, this could cause compression underneath the Class B.

Simplicity is a goal of airspace design and it is true that using one altitude for the entire circle would be less complex. However, the proposed 3,000-foot floor on the east and west sides could not be raised to 3,500 feet, as some suggested, without impacting PHL arrivals because this airspace is necessary to contain aircraft descending to land at PHL. Lowering the floor to 3,000 feet all the way around for simplicity would create additional impact on VFR operations by designating Class B airspace where a 3,000-foot floor is not required by ATC. The FAA understands the need of VFR pilots to have access to Class B airspace for safety and efficiency of flight, and plans to make this available on request whenever it can be provided without impacting the safety of other aircraft operating in the airspace.

One commenter proposed that the extensions on the east and west be made part-time so that they would only be active when actually being used for traffic containment.

The suggestion for part-time Class B segments could potentially decrease the impact on nonparticipating traffic. A similar concept has been successfully applied to military special use airspace areas. However, further study of various issues is required to determine whether the concept is operationally feasible and could be safely implemented in a Class B airspace environment. These issues include: procedures for activating/deactivating affected Class B sections and ensuring real-time pilot notification of airspace status changes, response to runway changes or closures and inflight emergencies, aeronautical charting specifications, weather factors, safety; etc.

One commenter contended that the need for lower Class B floors could be reduced by eliminating the requirement for aircraft to be below the ILS glideslope when being turned on to final approach and by using a two-stage glide slope set at 3 degrees within 8 to 9 miles from the runway and up to 6 degrees at greater distances.

These suggestions would require a revision of instrument flight procedures and the development of new or additional glideslope equipment which may not be technically feasible and/or may involve flight safety issues. As such, they are outside the scope of this airspace proposal.

The Proposal

The FAA is proposing an amendment to Title 14, Code of Federal Regulations (14 CFR) part 71 to modify the Philadelphia, PA, Class B airspace area. This action (depicted on the attached chart) proposes to modify the lateral and vertical limits of Class B airspace to ensure the containment of large turbine-powered aircraft once they enter the airspace, reduce frequency congestion and controller workload, and enhance safety in the Philadelphia terminal area. The Class B airspace ceiling would remain at 7,000 feet MSL. Mileages are in nautical miles and, unless otherwise noted, are based on a radius from PHL ARP (lat. 39°52′20″ N., long. 75°14′27″ W.). The proposed modifications of the Philadelphia Class B airspace area, by subarea, are outlined below.

Area A. This area, extending upward from the surface to 7,000 feet MSL, would be expanded from the current 6-mile radius to an 8-mile radius. A cutout would be incorporated in the northeast quadrant of Area A to accommodate helicopter operations as discussed above.

Area B. No changes are proposed to this area, which extends from 300 feet MSL to 7,000 feet MSL.

Area C. This area, which extends from 600 feet MSL to 7,000 feet MSL, would remain largely the same except that its boundaries would be extended outward to meet the proposed 8-mile radius of Area A.

Area D. This area would extend from 1,500 feet to 7,000 feet between the 8-mile and 11-mile rings around PHL, with an extension out to 15-miles to the east of PHL.

Area E. Area E would extend from 2,000 feet MSL to 7,000 feet MSL between the 11-mile and 15-mile rings from PHL with a cutout around 17N. The existing Class B floor in that area is 3,000 feet MSL.

Area F. Area F would consist of two sections between the 15-mile and 20-mile rings. One section would be located west of PHL and the other to the east of PHL. These sections would extend from 3,000 feet MSL to 7,000 feet MSL. The purpose of Area F would be to contain arrivals to the primary runways at PHL.

Area G. This area would extend from 3,500 feet MSL to 7,000 feet MSL. It would generally lie between the 15-mile and 20-mile rings, excluding the airspace in Areas F and H. The current Class B floor in most of that area is 4,000 feet MSL. Area G would also create new Class B airspace out to 20 miles to the east and south of PHL with a cutout to accommodate operations at 17N.

Area H. This area would consist of two sections, extending from 4,000 feet MSL to 7,000 feet MSL, between the 20-mile and 24-mile rings, to the east and west of PHL. The purpose of this new Class B airspace would be to contain arrivals to the primary runways at PHL.

The geographic latitude/longitude coordinates in this proposal are based on North American Datum 83.

Class B airspace areas are published in paragraph 3000 of FAA Order 7400.9V, dated August 9, 2011 and effective September 15, 2011, which is incorporated by reference in 14 CFR 71.1. The Class B airspace area proposed in this document would be published subsequently in the Order.

Environmental Review

This proposal will be subject to an environmental analysis in accordance with FAA Order 1050.1E, “Environmental Impacts: Policies and Procedures” prior to any FAA final regulatory action.

Paperwork Reduction Act

The Paperwork Reduction Act of 1995 (44 U.S.C. 3507(d)) requires that the FAA consider the impact of paperwork and other information collection burdens imposed on the public. We have determined that there is no new information collection requirement associated with this proposed rule.

Regulatory Evaluation Summary

Changes to Federal regulations must undergo several economic analyses. First, Executive Order 12866 and Executive Order 13563 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this proposed rule.

Department of Transportation Order DOT 2100.5 prescribes policies and procedures for simplification, analysis, and review of regulations. If the expected cost impact is so minimal that a proposed or final rule does not warrant a full evaluation, this order permits that a statement to that effect and the basis for it be included in the preamble if a full regulatory evaluation of the cost and benefits is not prepared. Such a determination has been made for this proposed rule. The reasoning for this determination follows:

In conducting these analyses, the FAA has determined that this proposed rule:

(1) Imposes minimal incremental costs and provides benefits,

(2) Is not an economically “significant regulatory action” as defined in section 3(f) of Executive Order 12866,

(3) Is not significant as defined in DOT's Regulatory Policies and Procedures;

(4) Would not have a significant economic impact on a substantial number of small entities;

(5) Would not have a significant effect on international trade; and

(6) Would not impose an unfunded mandate on state, local, or tribal governments, or on the private sector by exceeding the monetary threshold identified.

These analyses are summarized below.

The Proposed Action

This action proposes to modify the Philadelphia, PA, Class B airspace area to ensure the containment of large turbine-powered aircraft within Class B airspace, reduce controller workload, and reduce the potential for midair collision in the Philadelphia terminal area.

Benefits of the Proposed Action

The benefits of this action are that it would enhance safety, improve the flow of air traffic, and reduce the potential for midair collisions in the PHL terminal area. In addition this action would support the FAA's national airspace redesign goal of optimizing terminal and enroute airspace areas to reduce aircraft delays and improve system capacity.

Costs of the Proposed Action

Possible costs of this proposal would include the costs of general aviation aircraft that might have to fly further if this proposal were adopted. However, the FAA believes that any such costs would be minimal because the FAA designed the proposal to minimize the effect on aviation users who would not fly in the Class B airspace. In addition the FAA held a series of meetings to solicit comments from people who thought that they might be affected by the proposal. Wherever possible the FAA included the comments from these meetings in the proposal.

Expected Outcome of the Proposal

The expected outcome of the proposal would be a minimal impact with positive net benefits and a regulatory evaluation was not prepared. The FAA requests comments with supporting justification about the FAA determination of minimal impact.

Initial Regulatory Flexibility Determination

The Regulatory Flexibility Act of 1980 (Pub. L. 96-354) (RFA) establishes “as a principle of regulatory issuance that agencies shall endeavor, consistent with the objective of the rule and of applicable statutes, to fit regulatory and informational requirements to the scale of the business, organizations, and governmental jurisdictions subject to regulation.” To achieve that principle, the RFA requires agencies to solicit and consider flexible regulatory proposals and to explain the rationale for their actions. The RFA covers a wide-range of small entities, including small businesses, not-for-profit organizations and small governmental jurisdictions.

Agencies must perform a review to determine whether a proposed or final rule will have a significant economic impact on a substantial number of small entities. If the agency determines that it will, the agency must prepare a regulatory flexibility analysis as described in the Act.

However, if an agency determines that a proposed or final rule is not expected to have a significant economic impact on a substantial number of small entities, section 605(b) of the 1980 RFA provides that the head of the agency may so certify and a regulatory flexibility analysis is not required. The certification must include a statement providing the factual basis for this determination, and the reasoning should be clear.

The proposal is expected to improve safety by redefining Class B airspace boundaries and is expected to impose only minimal costs. The expected outcome would be a minimal economic impact on small entities affected by this rulemaking action.

Therefore, the FAA certifies that this proposed rule, if promulgated, would not have a significant economic impact on a substantial number of small entities. The FAA requests comments on this determination. Specifically, the FAA requests comments on whether the proposal creates any specific compliance costs unique to small entities. Please provide detailed economic analysis to support any cost claims. The FAA also invites comments regarding other small entity concerns with respect to the proposal.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards.

The FAA has assessed the potential effect of this proposed rule and determined that it would have no effect on international trade.

Unfunded Mandates Assessment

Title II of the Unfunded Mandates Reform Act of 1995 (Pub. L. 104-4) requires each Federal agency to prepare a written statement assessing the effects of any Federal mandate in a proposed or final agency rule that may result in an expenditure of $100 million or more (adjusted annually for inflation) in any 1 year by State, local, and tribal governments, in the aggregate, or by the private sector; such a mandate is deemed to be a “significant regulatory action.” The FAA currently uses an inflation-adjusted value of $143.1 million in lieu of $100 million. This proposal does not contain such a mandate; therefore the requirements of Title II do not apply.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9V, Airspace Designations and Reporting Points, dated August 9, 2011, and effective September 15, 2011, is amended as follows:

Paragraph 3000 Subpart B—Class B airspace.

* * * * *

AEA PA B Philadelphia, PA [Revised]

Philadelphia International Airport, PA (Primary Airport)

(Lat. 39°52′20″ N., long. 75°14′27″ W.)

Northeast Philadelphia Airport, PA

(Lat. 40°04′55″ N., long. 75°00′38″ W.)

Cross Keys Airport, NJ

(Lat. 39°42′20″ N., long. 75°01′59″ W.)

Boundaries

Area A. That airspace extending upward from the surface to and including 7,000 feet MSL within an 8-mile radius of the Philadelphia International Airport (PHL), excluding that airspace bounded by a line beginning at the intersection of the PHL 8-mile radius and the 002° bearing from PHL, thence direct to lat. 39°56′14″ N., long. 75°12′11″ W., thence direct to lat. 39°55′40″ N., long. 75°08′31″ W., thence direct to the intersection of the PHL 8-mile radius and the 061° bearing from PHL, and that airspace within and underlying Areas B and C hereinafter described.

Area B. That airspace extending upward from 300 feet MSL to and including 7,000 feet MSL, beginning at the east tip of Tinicum Island, thence along the south shore of Tinicum Island to the westernmost point, thence direct to the outlet of Darby Creek at the north shore of the Delaware River, thence along the north shore of the river to Chester Creek, thence direct to Thompson Point, thence along the south shore of the Delaware River to Bramell Point, thence direct to the point of beginning.

Area C. That airspace extending upward from 600 feet MSL to and including 7,000 feet MSL, beginning at Bramell Point, thence along the south shore of the Delaware River to Thompson Point, thence direct to the outlet of Chester Creek at the Delaware River, thence along the north shore of the Delaware River to the 8-mile radius of PHL, thence counterclockwise along the 8-mile radius to the 180° bearing from PHL, thence direct to Bramell Point.

Area D. That airspace extending upward from 1,500 feet MSL to and including 7,000 feet MSL within an 11-mile radius of PHL; and that airspace within 7.5 miles north and south of the Runway 27R localizer course extending from the 11-mile radius to the 15-mile radius east of PHL; excluding that airspace within a 5.8-mile radius of North Philadelphia Airport (PNE), and Areas A, B, and C.

Area E. That airspace extending upward from 2,000 feet MSL to and including 7,000 feet MSL within a 15-mile radius of PHL, excluding that airspace within a 5.8-mile radius of PNE, and that airspace bounded by a line beginning at the intersection of the PHL 15-mile radius and the 141° bearing from PHL, thence direct to the intersection of the Cross Keys Airport (17N) 1.5-mile radius and the 212° bearing from 17N, thence clockwise via the 1.5-mile radius of 17N to the 257° bearing from 17N, thence direct to the intersection of the 17N 1.5-mile radius and the 341° bearing from 17N, thence clockwise via the 1.5-mile radius of 17N to the 011° bearing from 17N, thence direct to the intersection of the PHL 15-mile radius and the 127° bearing from PHL, and Areas A, B, C, and D.

Area F. That airspace extending upward from 3,000 feet MSL to and including 7,000 feet MSL within 7.5 miles north and south of the Runway 9R localizer course extending from the 15-mile radius west of PHL to the 20-mile radius west of PHL; and within 7.5 miles north and south of the Runway 27R localizer course extending from the 8-mile radius east of PHL to the 20-mile radius east of PHL, excluding Area D.

Area G. That airspace extending upward from 3,500 feet MSL to and including 7,000 feet MSL within a 20-mile radius of PHL, excluding that airspace south of a line beginning at the intersection of the PHL 20-mile radius and the 158° bearing from PHL, thence direct to the intersection of the PHL 20-mile radius and the 136° bearing from PHL, and that airspace bounded by a line beginning at the intersection of the PHL 20-mile radius and the 136° bearing from PHL, thence direct to the intersection of the PHL 15-mile radius and the 141° bearing from PHL, thence direct to the intersection of the Cross Keys Airport (17N) 1.5-mile radius and the 212° bearing from 17N, thence clockwise via the 1.5-mile radius of 17N to the 257° bearing from 17N, thence direct to the intersection of the 17N 1.5-mile radius and the 341° bearing from 17N, thence clockwise via the 1.5-mile radius of 17N to the 011° bearing from 17N, thence direct to the intersection of the PHL 15-mile radius and the 127° bearing from PHL, thence direct to the intersection of the PHL 20-mile radius and the 120° bearing from PHL, and Areas A, B, C, D, E and F.

Area H. That airspace extending upward from 4,000 feet MSL to and including 7,000 feet MSL within 7.5 miles north and south of the Runway 9R localizer course extending from the 20-mile radius west of PHL to the 24-mile radius west of PHL; and within 7.5 miles north and south of the Runway 27R localizer course extending from the 20-mile radius east of PHL to the 24-mile radius east of PHL.

Issued in Washington, DC, on July 26, 2012.
Gary A. Norek,
Manager, Airspace Policy and ATC Procedures Group.

[FR Doc. 2012-18644 Filed 7-30-12; 8:45 am]

BILLING CODE 4910-13-P